DEPARTMENT OF TRANSPORTATION

National Highway Traffic Safety Administration

Reports, Forms, and Record keeping Requirements

AGENCY: National Highway Traffic Safety Administration (NHTSA), DOT.

ACTION: Notice.

SUMMARY: In compliance with the Paperwork Reduction Act of 1995 (44 U.S.C. 3501 et seq.), this notice announces that the Information Collection Request (ICR) abstracted regarding the Procedures for Selecting Lines to be Covered by the Theft Prevention Standard below has been forwarded to the Office of Management and Budget (OMB) for review and comment. The ICR describes the nature of the information collections and their expected burden. The Federal Register Notice with a 60-day comment period was published on February 4, 2011 (76 FR 6512). The agency received no comments.

DATES: Comments must be submitted on or before June 24, 2011.

ADDRESSES: Send comments, within 30 days, to the Office of Information and Regulatory Affairs, Office of Management and Budget, 725 17th Street, NW., Washington, DC 20503, Attention NHTSA Desk Officer.

Comments are invited on: Whether the proposed collection of information is necessary for the proper performance of the functions of the Department, including whether the information will have practical utility; the accuracy of the Departments' estimate of the burden of the proposed information collection; ways to enhance the quality, utility and clarity of the information to be collected; and ways to minimize the burden of the collection of information on respondents, including the use of automated collection techniques or other forms of information technology.

A comment to OMB is most effective if OMB receives it within 30 days of publication.

FOR FURTHER INFORMATION CONTACT: Carlita Ballard at the National Highway Traffic Safety Administration, Office of International Policy, Fuel Economy and Consumer Programs (NVS-131), 1200 New Jersey Ave., SE., West Building, Room W43-439, NVS-131, Washington, DC 20590. Ms. Ballard's telephone number is (202) 366-5222. Please identify the relevant collection of information by referring to its OMB Control Number.

SUPPLEMENTARY INFORMATION:

National Highway Traffic Safety Administration

Title: Procedures for Selecting Lines to be Covered by the Theft Prevention Standard (49 CFR 542).

OMB Control Number: 2127-0539.

Type of Request: Extension of a currently approved information collection.

Abstract: Manufacturers of light duty trucks must identify new model introductions that are likely to be high-theft lines as defined in 49 U.S.C. 33104. In 1984, Congress enacted the Motor Vehicle Theft Law Enforcement Act (the 1984 Theft Act). As a means to prevent the theft of motor vehicles for their parts, the 1984 Theft Act required vehicle manufacturers to mark the major parts of “high-theft” passenger cars and the major replacement parts for those cars. The Anti Car Theft Act of 1992 (ACTA) amended the 1984 Theft Act to extend its provisions to multipurpose passenger vehicles (MPVs) and light duty trucks (LDTs).

The 1984 Theft Act, as amended by ACTA, requires NHTSA to promulgate a theft prevention standard for the designation of high-theft vehicle lines. The specific lines are to be selected by agreement between the manufacturer and the agency. If there is a disagreement of the selection, the statute states that the agency shall select such lines and parts, after notice to the manufacturer and an opportunity for written comment. NHTSA's procedures for selecting high theft vehicle lines are contained in 49 CFR part 542.

In a final rule published on April 6, 2004, the Federal Motor Vehicle Theft Prevention Standard was extended to include all passenger cars and multipurpose passenger vehicles with a gross vehicle weight rating of 6,000 pounds or less, regardless of whether they were likely to be high or low theft, and to light duty trucks with major parts that are interchangeable with a majority of the covered major parts of multipurpose passenger vehicles. The final rule became effective September 1, 2006.

NHTSA anticipates that there are approximately 7 vehicle manufacturers that could request a theft determination. All seven are still active in the U.S. market and could respond on an annual basis. We anticipate this to remain the average number of yearly responses that could be received by the agency.

NHTSA estimates that the average hours per submittal will be 45, for a total annual burden of 315. The total annual burden of 315 remains the same as the current OMB inventory. NHTSA estimates that the cost associated with the burden hours is a $57.06 per hour, for a total cost of approximately $18,000.

Affected Public: Motor vehicle manufacturers.

Estimated Total Annual Burden: NHTSA estimates that there would be no additional cost to motor vehicle manufacturers that would require it to comply to this regulation.

Christopher J. Bonanti,
Associate Administrator for Rulemaking.

[FR Doc. 2011-12843 Filed 5-24-11; 8:45 am]

BILLING CODE 4910-59-P